DEPARTMENT OF HEALTH AND HUMAN SERVICES

Centers for Disease Control and Prevention

[Program Announcement 02143]

Validating the Effectiveness of a Hand Hygiene Intervention Program in Healthcare Facilities; Notice of Availability of Funds

A. Purpose

The Centers for Disease Control and Prevention (CDC) announces the availability of fiscal year (FY) 2002 funds for a cooperative agreement program for Validating the Effectiveness of a Hand Hygiene Intervention Program in Healthcare Facilities. This program addresses the “Healthy People 2010” focus areas of Access to Quality Health Services and Immunization and Infectious Diseases.

The purpose of the program is to demonstrate the impact of a specific hand hygiene intervention program in a group of healthcare facilities in which no such hand hygiene program previously existed. The hand hygiene intervention program to be evaluated was developed in collaboration with CDC by the Chicago Antimicrobial Resistance Project (CARP). The goals of this program are to: (1) Evaluate the reproducibility of the CARP hand hygiene intervention program in healthcare facilities in which no such hand hygiene program previously existed; (2) evaluate the impact of the program on the incidence of isolation of antimicrobial resistant microorganisms; and (3) evaluate the suitability of this program to be developed into a public health product that can be widely promoted to healthcare facilities nationwide.

B. Eligible Applicants

Applications may be submitted by public and private nonprofit organizations and by governments and their agencies; that is, universities, colleges, research institutions, hospitals, other public and private nonprofit organizations, State and local governments or their bona fide agents, including the District of Columbia, the Commonwealth of the Northern Mariana Islands, American Samoa, Guam, the Federated States of Micronesia, the Republic of the Marshall Islands, and the Republic of Palau, and federally recognized Indian tribal governments, Indian tribes, or Indian tribal organizations. Faith-based organizations are eligible for this award.

Note: Title 2 of the United States Code section 1611 states that an organization described in section 501(c)(4) of the Internal Revenue Code that engages in lobbying activities is not eligible to receive Federal funds constituting an award, grant or loan.

C. Availability of Funds

Approximately $197,830 is available in FY 2002 to fund one award. It is expected that the award will begin on or about August 1, 2002 and will be made for a 12-month budget period within a project period of one year. The funding estimate may change.

Continuation awards within an approved project period will be made on the basis of satisfactory progress as evidenced by required reports and the availability of funds.

Use of Funds

Equipment may be purchased with cooperative agreement funds. However, the equipment proposed should be appropriate and reasonable for the activity to be conducted. The applicant, as part of the application process, should provide: (1) A justification for the need to acquire the equipment; (2) the description of the equipment; (3) the intended use of the equipment; and (4) the advantages/disadvantages of purchase versus lease of the equipment (if applicable). Requests for equipment purchases will be reviewed and approved only under the condition that the National Center for Infectious Diseases, Division of Health Quality Promotion, will retain the right to request return of all equipment which is in operable condition and was purchased with cooperative agreement funds at the conclusion of the project period.

Funding Preferences

1. Funding preference will be given to applicants affiliated with integrated healthcare delivery networks (such as hospital “chains” or managed care organizations which operate their own healthcare facilities).

2. Funding preference will be given to healthcare delivery networks that have between four and ten healthcare facilities in close geographic proximity to one another that share a common administration and electronic information systems, including at least two long-term care facilities.

3. Funding preference will be given to applicants who have already identified a person that has a demonstrated background in infection control in healthcare facilities who can be designated to work full-time on this project.

4. Funding preference will be given to applicants who demonstrate a willingness to model, in collaboration with CDC, their hand hygiene intervention program after the CARP hand hygiene intervention program.

5. Funding preference will be given to applicants who have existing infrastructure and experience to perform active surveillance for healthcare-associated infections and antimicrobial resistance using methodology consistent with the National Nosocomial Infections Surveillance System (NNIS).

6. Funding preference will be given to applicants who have installed alcohol-based handrub dispensers in all patient care areas of facilities which will participate in the project.

D. Program Requirements

In conducting activities to achieve the purpose of this program, the recipient will be responsible for the activities under 1. Recipient Activities, and CDC will be responsible for the activities listed under 2. CDC Activities.

1. Recipient Activities

a. In collaboration with CDC, develop and implement a formal hand hygiene program in multiple healthcare facilities which has the following components:

(1) Regular educational presentations. At a minimum, educational presentations will be given annually to each healthcare worker. The interactive presentation uses an audience response system, an educational tool which actively engages the audience and allows participants to respond to the speaker and compare their own response with that of others. Components of the presentation include: review of the Hospital Infection Control Practice Advisory Committee's hand hygiene guideline, review of hospital policy related to hand hygiene and infection control, current hand antisepsis options for healthcare workers, data on hospital-specific hand hygiene adherence rates, benefits of alcohol-based hand rubs, importance of wearing gloves, effect of artificial nails on hand antisepsis, rings as a risk factor for healthcare worker hand contamination, and generalized hand care; including use of lotions. The presentation also includes two accompanying handouts: an individual, pocket-sized bottle of alcohol hand rub, and a fact sheet with questions and answers regarding alcohol-based hand rubs.

(2) Displays/Visuals.

(i) Poster campaign using specific templates provided by the CDC

(ii) Infection control game utilizing questions and answers pertaining to hand hygiene

(iii) Distribution of promotional items with hand hygiene messages (e.g. buttons, key chains, pens, and mugs)

(3) Motivational Items.

(i) Feedback of hand hygiene adherence rates to clinical areas and groups

(ii) Recognition of achievements

b. Perform observational prospective hand hygiene surveillance using a structured protocol in every participating facility.

c. Measure antimicrobial resistance rates before during and after implementation of the program using the methods of the Antimicrobial Use and Resistance (AUR) component of the National Nosocomial Infection Surveillance system.

d. In collaboration with CDC, develop a plan to evaluate cost-effectiveness of the intervention.

2. CDC Activities

a. Collaborate, as appropriate, with the recipient in all stages of the program, and provide programmatic and technical assistance.

b. Assist in data collection, analysis, and interpretation of data from the project.

c. Participate in improving program performance through consultation based on information and activities of other projects.

d. Provide scientific collaboration for appropriate aspects of the program, preventive measures, and program strategies.

e. Assist in the reporting and dissemination of research and other results and relevant healthcare quality prevention education and training information to appropriate Federal, State, and local agencies, healthcare providers, the scientific community, and prevention and service organizations with an interest in healthcare quality, and the general public.

f. Assist in the development of a research protocol for Institutional Review Board (IRB) review by all cooperating institutions participating in the research project. The CDC IRB will review and approve the protocol initially and on at least an annual basis until the research project is completed.

E. Content

Letter of Intent (LOI)

An LOI is optional for this program. The narrative should be no more than three double-spaced pages, printed on one side, with one inch margins, and unreduced font. Your letter of intent will be used to enable CDC to determine the level of interest in the program announcement. Your letter of intent should identify Program Announcement Number 02143, and include the following information: (1) Name and address of institution, and (2) name, address, telephone number, e-mail address, and fax number of a contact person.

Applications

Use the information in the Program Requirements, Other Requirements, and Evaluation Criteria sections to develop the application content. Your application will be evaluated on the criteria listed, so it is important to follow them in laying out your program plan. The narrative should be no more than 25 double-spaced pages, printed on one side, with one inch margins, and unreduced font.

1. Provide a line-item budget and narrative justification for all requested costs. The budget should be consistent with the purpose, objectives and research activities, and include:

a. Line-item breakdown and justification for all personnel, i.e., name, position title, annual salary, percentage of time and effort, and amount requested.

b. For each contract: (1) Name of proposed contractor; (2) breakdown and justification for estimated costs; (3) description and scope of activities to be performed by contractor; (4) period of performance, (5) method of contractor selection (e.g., sole-source or competitive solicitation); and (6) method of accountability.

c. A description of any financial and in-kind contributions from nonfederal sources.

Additionally, include a one page, single-spaced, typed abstract. The heading should include the title of the cooperative agreement, project title, organization, name and address, project director, and telephone number. This abstract should include a workplan identifying activities to be developed, activities to be completed, and a time-line for completion of these activities.

F. Submission and Deadline

Letter of Intent (LOI)

On or before June 1, 2002, submit the LOI to the Grants Management Specialist identified in the “Where to Obtain Additional Information” section of this announcement.

Application

Submit the original and two copies of PHS 5161-1 (OMB Number 0920-0428). Forms are available at the following Internet address: www.cdc.gov/od/pgo/forminfo.htm or in the application kit. On or before July 14, 2002, submit the application to: Technical Information Management-PA02143, Procurement and Grants Office, Centers for Disease Control and Prevention, 2920 Brandywine Rd, Room 3000, Atlanta, GA 30341-4146.

Deadline: Applications shall be considered as meeting the deadline if they are received on or before the deadline date.

Late Applications: Applications which do not meet the criteria above are considered late applications, will not be considered, and will be returned to the applicant.

G. Evaluation Criteria

Applicants are required to provide measures of effectiveness that will demonstrate the accomplishment of the various identified objectives of the cooperative agreement. Measures of effectiveness must relate to the performance goals as stated in section “A. Purpose” of this announcement. Measures must be objective and quantitative and must measure the intended outcome. These measures of effectiveness shall be submitted with the application and shall be an element of evaluation.

Each application will be evaluated individually against the following criteria by an independent review group appointed by CDC.

1. Background and Need (10 points)

The extent to which the applicant demonstrates a strong understanding of this program for validating the effectiveness of a hand hygiene intervention program in healthcare facilities. The extent to which the applicant illustrates the need for this cooperative agreement program. The extent to which the applicant presents a clear goal for this cooperative agreement that is consistent with the described need.

2. Capacity (30 points)

The extent to which the applicant demonstrates that it has the expertise, facilities, and other resources necessary to accomplish the program requirements, including curricula vitae of key personnel and letters of support from any participating organizations and institutions. In particular, the degree to which the applicant demonstrates a healthcare delivery network which includes adequate numbers of facilities in close geographic proximity to one another that share common administration and information systems, and who demonstrate a willingness to fully participate.

3. Operational Plan (40 points)

a. The extent to which the applicant presents clear, time-phased objectives that are consistent with the stated program goal and a detailed operational plan outlining specific activities that are likely to achieve the objective. The extent to which the plan clearly outlines the responsibilities of each of the key personnel. (35 points)

b. The degree to which the applicant has met the CDC Policy requirements regarding the inclusion of women, ethnic, and racial groups in the proposed research. This includes: (1) The proposed plan for the inclusion of both sexes and racial and ethnic minority populations for appropriate representation; (2) the proposed justification when representation is limited or absent; (3) a statement as to whether the design of the study is adequate to measure differences when warranted; and (4) a statement as to whether the plans for recruitment and outreach for study participants include the process of establishing partnerships with community(ies) and recognition of mutual benefits. (5 points)

4. Evaluation Plan (15 points)

The extent to which the applicant presents a scientifically valid plan for monitoring the impact of the intervention, including, but not limited to, cost effectiveness.

5. Measures of Effectiveness (5 points)

The extent to which the applicant provides Measures of Effectiveness that will demonstrate the accomplishment of the various identified objectives of the cooperative agreement. Measures must be objective/quantitative and must measure the intended outcome.

6. Budget (Not scored)

The extent to which the applicant presents a reasonable detailed budget with a line-item justification and any other information to demonstrate that the request for assistance is consistent with the purpose and objectives of this cooperative agreement program.

7. Human Subjects (Not scored)

The extent to which the application adequately addresses the requirements of Title 45 CFR Part 46 for the protection of human subjects.

H. Other Requirements

Technical Reporting Requirements

Provide CDC with original plus two copies of:

1. Semiannual progress reports.

2. Financial status report, no more than 90 days after the end of the budget period.

3. Final financial and performance reports, no more than 90 days after the end of the project period.

4. Applicants are required to provide measures of effectiveness that will demonstrate the accomplishment of the various identified objectives of the cooperative agreement.

Send all reports to the Grants Management Specialist identified in the “Where to Obtain Additional Information” section of this announcement.

The following additional requirements are applicable to this program. For a complete description of each, see Attachment I of this announcement.

AR-1 Human Subjects Requirements

AR-2 Requirements for Inclusion of Women and Racial and Ethnic Minorities in Research

AR-7 Executive Order 12372 Review

AR-10 Smoke-Free Workplace Requirements

AR-11 Healthy People 2010

AR-12 Lobbying Restrictions

AR-15 Proof of Non-Profit Status

AR-22 Research Integrity

I. Authority and Catalog of Federal Domestic Assistance Number

This program is authorized under section 301(a) and 317(k)(2) of the Public Health Service Act, [42 U.S.C. sections 241(a) and 247b(k)(2)], as amended. The Catalog of Federal Domestic Assistance number is 93.283.

J. Where To Obtain Additional Information

This and other CDC announcements can be found on the CDC home page Internet address— http://www.cdc.gov Click on “Funding” then “Grants and Cooperative Agreements.”

If you have questions after reviewing the contents of all the documents, business management technical assistance may be obtained from: Rene’ Benyard, Grants Management Specialist, Centers for Disease Control and Prevention, Procurement and Grants Office, Acquisition and Assistance, Branch B, 2920 Brandywine Road, Room 3000, Mailstop K-75, Atlanta, GA 30341-4146, Telephone number: (770) 488-2722, E-mail address: bnb8@cdc.gov.

For program technical assistance, contact: John Jernigan, M.D., Centers for Disease Control and Prevention, National Center for Infectious Diseases, Division of Healthcare Quality and Promotion, 57 Executive Park South, Room 4109, Mailstop E-68, Telephone number: (404)498-1257, E-mail address: Jjernigan@cdc.gov.

Dated: May 4, 2002.
Sandra R. Manning,
Director, Procurement and Grants Office, Centers for Disease Control and Prevention.

[FR Doc. 02-11709 Filed 5-9-02; 8:45 am]

BILLING CODE 4163-18-P